ENVIRONMENTAL PROTECTION AGENCY

[FRL 9614-01-OA]

Request for Nominations for a Science Advisory Board Panel

AGENCY: Environmental Protection Agency (EPA).

ACTION: Notice.

SUMMARY: The Environmental Protection Agency (EPA) Science Advisory Board (SAB) Staff Office requests public nominations of scientific experts to form a panel to review the new cloud-based Environmental Benefits and Mapping (BenMAP) tool, an open-source computer program that calculates estimated air pollution-related deaths and illnesses and their associated economic value. BenMAP is a shorthand title referring to the EPA's Environmental Benefits Mapping and Analysis Program, which has recently been updated to a new software platform built with Java code for the interface. The panel will review the latest available public release version of the BenMAP software.

DATES: Nominations should be submitted by April 26, 2022 per the instructions below.

FOR FURTHER INFORMATION CONTACT: Any member of the public wishing further information regarding this Notice and request for nominations may contact Dr. Bryan Bloomer, Designated Federal Officer (DFO), EPA Science Advisory Board via telephone/voice mail (202) 564-4222, or email at bloomer.bryan@epa.gov. General information concerning the EPA SAB can be found at the EPA SAB website at https://sab.epa.gov. For information concerning BenMAP, please contact Dr. Peter Maniloff by email at maniloff.peter@epa.gov or phone (919) 541-5548.

SUPPLEMENTARY INFORMATION: Background: The SAB (42 U.S.C. 4365) is a chartered Federal Advisory Committee that provides independent scientific and technical peer review, advice, and recommendations to the EPA Administrator on the technical basis for EPA actions. As a Federal Advisory Committee, the SAB conducts business in accordance with the Federal Advisory Committee Act (FACA) (5 U.S.C. app. 2) and related regulations. The SAB Staff Office is forming an expert panel, the BenMAP Review Panel, under the auspices of the Chartered SAB. The BenMAP Review Panel will provide advice through the chartered SAB. The SAB and the BenMAP Review Panel will comply with the provisions of FACA and all appropriate SAB Staff Office procedural policies.

The BenMAP Review Panel will conduct the review of BenMAP as requested by the EPA's Office of Air and Radiation. This panel is one of two separate, but related, panels that will evaluate two different aspects of EPA's overall health benefits assessment methods. The panel being formed with this Notice will review the new cloud-based version of BenMAP and will investigate how the BenMAP software implements EPA's methods to quantify estimated health benefits of air quality changes. The goal of this review will be to focus, in particular, on the user interface, software engineering and documentation (i.e., does the tool correctly perform the intended analytics and yield defensible, scientifically sound and consistent results?). The panel being formed with the nominations solicited with this Notice will be asked to examine the software code in the new cloud-based version of BenMAP and independently evaluate model construction and operations. Thus, panelists for this review will need the appropriate software experience and environmental/health/economic modeling assessment experience to conduct this review. The panelists will have access to a publicly available but non-final cloud-based version of BenMAP and the legacy desktop version of BenMAP, as well as the computer code and design documentation for each. Subsequently, a second SAB panel (to be formed soon via a separate FRN soliciting nominations) will evaluate specific aspects of the methodology EPA uses to quantify estimated health benefits of air quality changes, including how EPA selects human health endpoints to quantify and selects among risk estimates from epidemiologic studies, among others.

Request for Nominations: The SAB Staff Office is seeking nominations of nationally and internationally recognized scientists with demonstrated expertise in the following disciplines: Software development (including expertise in Java, User Interfaces, database/data-management, and cloud computing in the Amazon Web Services [AWS] platform); Geographic Information Systems and Geostatistics; Demographics; Risk Assessment; Statistics/Biostatistics; Atmospheric Modeling; Photochemical Air Quality Modeling; Economics Modeling (including expertise in Non-Market Valuation). As noted above, the panel will need to have the appropriate computational expertise to examine the software code in the cloud-based version of BenMAP and independently evaluate model construction and operations. The panel will be asked to evaluate the performance of the cloud-based version of BenMAP by examining the computer code and documentation, running specific cases, comparing cloud-based platform results to results generated using the legacy desktop version, and any other associated model performance elements as needed.

Process and Deadline for Submitting Nominations: Any interested person or organization may nominate qualified individuals in the areas of expertise described above for possible service on the SAB panel. Individuals may self-nominate. Nominations should be submitted in electronic format (preferred) using the online nomination form on the SAB website at https://sab.epa.gov (see the “Public Input on Membership” list under “Committees, Panels, and Membership” following the instructions for “Nominating Experts to Advisory Panels and Ad Hoc Committees Being Formed,” provided on the SAB website (see the “Nomination of Experts” link under “Current Activities” at https://sab.epa.gov). To be considered, nominations should include the information requested below. EPA values and welcomes diversity. All qualified candidates are encouraged to apply regardless of sex, race, disability or ethnicity. Nominations should be submitted in time to arrive no later than April 26, 2022.

The following information should be provided on the nomination form: Contact information for the person making the nomination; contact information for the nominee; and the disciplinary and specific areas of expertise of the nominee. Nominees will be contacted by the SAB Staff Office and will be asked to provide a recent curriculum vitae and a narrative biographical summary that include the following: Current position, educational background; research activities; sources of research funding for the last two years; and recent service on other national advisory committees or national professional organizations. Persons having questions about the nomination procedures, or who are unable to submit nominations through the SAB website, should contact the DFO at the contact information noted above. The names and biosketches of qualified nominees identified by respondents to this Federal Register Notice, and additional experts identified by the SAB Staff Office, will be posted in a List of Candidates for the panel on the SAB website at https://sab.epa.gov. Public comments on the List of Candidates will be accepted for 21 days. The public will be requested to provide relevant information or other documentation on nominees that the SAB Staff Office should consider in evaluating candidates.

For the EPA SAB Staff Office a balanced review panel includes candidates who possess the necessary domains of knowledge, the relevant scientific perspectives (which, among other factors, can be influenced by work history and affiliation), and the collective breadth of experience to adequately address the charge. In forming the expert panel, the SAB Staff Office will consider public comments on the Lists of Candidates, information provided by the candidates themselves, and background information independently gathered by the SAB Staff Office. Selection criteria to be used for panel membership include: (a) Scientific and/or technical expertise, knowledge, and experience (primary factors); (b) availability and willingness to serve; (c) absence of financial conflicts of interest; (d) absence of an appearance of a loss of impartiality; (e) skills working in committees, subcommittees and advisory panels; and, (f) for the panel as a whole, diversity of expertise and scientific points of view.

The SAB Staff Office's evaluation of an absence of financial conflicts of interest will include a review of the “Confidential Financial Disclosure Form for Environmental Protection Agency Special Government Employees” (EPA Form 3110-48). This confidential form is required and allows government officials to determine whether there is a statutory conflict between a person's public responsibilities (which include membership on an EPA federal advisory committee) and private interests and activities, or the appearance of a loss of impartiality, as defined by federal regulation. The form may be viewed and downloaded through the “Ethics Requirements for Advisors” link on the SAB website at https://sab.epa.gov. This form should not be submitted as part of a nomination.

The approved policy under which the EPA SAB Office selects members for subcommittees and review panels is described in the following document: Overview of the Panel Formation Process at the Environmental Protection Agency Science Advisory Board (EPA-SAB-EC-02-010), which is posted on the SAB website at https://sab.epa.gov.

Thomas H. Brennan,
Director, Science Advisory Board Staff Office.

[FR Doc. 2022-07084 Filed 4-4-22; 8:45 am]

BILLING CODE 6560-50-P